DEPARTMENT OF COMMERCE

National Oceanic and Atmospheric Administration

RIN 0648-XH89

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will convene public meetings.

DATES: The meetings will be held June 2-5, 2008.

ADDRESSES: The meetings will be held at the Hilton Hobby Hotel, 8181 Airport Drive, Houston, TX 77061.

Council address: Gulf of Mexico Fishery Management Council, 2203 North Lois Avenue, Suite 1100, Tampa, FL, 33607.

FOR FURTHER INFORMATION CONTACT: Wayne E. Swingle, Executive Director, Gulf of Mexico Fishery Management Council; telephone: 813-348-1630.

SUPPLEMENTARY INFORMATION:

Committees

Monday, June 2, 2008-CLOSED SESSION

1 pm-5:30 pm-CLOSED SESSION-Budget/Personnel Committee and Full Council will interview and select an Executive Director.

Tuesday, June 3, 2008

8 am-12 pm&1:30 pm-5:30 pm-The Reef Fish Management Committee will meet to discuss Draft of Reef Fish Amendment 30B; Approval of Public Hearing Draft of Reef Fish Amendment 29, including IFQ Referendum Language; Ad Hoc Recreational Red Snapper AP Management and Bycatch Reduction Ideas; Review of NMFS Guidelines for ACL/AMs (if available); SEDAR TOR for Hogfish; and Ecosystem Workshop Report.

5:30 pm-6:30 pm-Informal Question and Answer Session on Gulf of Mexico Fishery Management Issues.

Wednesday, June 4, 2008

8:30 am-10:00 am-The Administrative Policy Committee will meet to discuss Report on Lenfest Annual Catch Limits (ACL's).

10:00 am-12 pm-The Joint Reef Fish/Mackerel/Red Drum Management Committee will meet to discuss the Generic Aquaculture Amendment.

1:30 pm-2:30 pm-The Outreach and Education Committee will meet to discuss Proposed Activities.

2:30 pm-4:30 pm-The Ad Hoc Allocation Committee will meet to discuss Development of Guidelines and Principles for Allocations.

4:30 pm-5:30 pm-The Stone Crab/Spiny Lobster Committee will meet to discuss the Spiny Lobster Scoping Meeting Document.

Council

Thursday, June 5, 2008-The Council meeting will begin at 8:30 am with a review of the agenda and minutes. From 8:45 am-9:45 am on Proposed Rule Integrating Magnuson-Stevens Act and NEPA; From 9:45 am-10:45 am public testimony on exempted fishing permits (EFPs), if any; An Open Public Comment Period regarding any fishery issue of concern will be immediately following completion of public testimony for one hour. People wishing to speak before the Council should complete a public comment card prior to the comment period. The Council will review and discuss reports from the previous two days' committee meetings as follows: 1 pm-3 pm-Reef Fish Management; 3 pm-3:15 pm-Joint Reef Fish/Mackerel/Red Drum; 3:15 pm -3:45 pm-Administrative Policy; 3:45 pm-4 pm-Outreach & Education; 4 pm-4:30 pm-Ad Hoc Allocation; 4:30 pm-4:45 pm-Stone Crab/Spiny Lobster. The Council will discuss Other Business items from 4:45 pm-5:45 pm. The Council will conclude its meeting at 5:45 pm.

Although other non-emergency issues not on the agendas may come before the Council and Committees for discussion, in accordance with the M-SFCMA, those issues may not be the subject of formal action during these meetings. Actions of the Council and Committees will be restricted to those issues specifically identified in the agendas and any issues arising after publication of this notice that require emergency action under Section 305(c) of the M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina Trezza at the Council (see ADDRESSES) at least 5 working days prior to the meeting.

Dated: May 13, 2008.
Tracey L. Thompson,
Acting Director, Office of Sustainable Fisheries, National Marine Fisheries Service.

[FR Doc. E8-10984 Filed 5-15-08; 8:45 am]

BILLING CODE 3510-22-S